DEPARTMENT OF HEALTH AND HUMAN SERVICES

National Institutes of Health

Eunice Kennedy Shriver National Institute of Child Health & Human Development Amended; Notice of Meeting

Notice is hereby given of a change in the meeting of the National Institute of Child Health and Human Development Special Emphasis Panel, July 18, 2019, 08:00 a.m. to July 18, 2019, 05:00 p.m., Residence Inn Bethesda, 7335 Wisconsin Avenue, Bethesda, MD 20814 which was published in the Federal Register on May 13, 2019, 84 FR 20901.

The meeting, ZHD1 DSR Z 50, will be a two-day meeting, July 17-18, 08:00 a.m. to 05:00 p.m. The meeting is closed to the public.

Dated: June 4, 2019.
Ronald J. Livingston, Jr.,
Program Analyst, Office of Federal Advisory Committee Policy.

[FR Doc. 2019-12073 Filed 6-7-19; 8:45 am]

BILLING CODE 4140-01-P